DEPARTMENT OF HEALTH AND HUMAN SERVICES

National Institutes of Health

Center for Scientific Review; Cancellation of Meeting

Notice is hereby given of the cancellation of the Center for Scientific Review Special Emphasis Panel, February 21, 2006, 4 p.m. to February 21, 2006, 5 p.m., National Institutes of Health, 6701 Rockledge Drive, Bethesda, MD, 20892 which was published in the Federal Register on February 3, 2006, 71 FR 5869-5872.

The meeting is canceled due to the reassignment of the application.

Dated: February 15, 2006.
Anna Snouffer,
Acting Director, Office of Federal Advisory Committee Policy.

[FR Doc. 06-1680 Filed 2-22-06; 8:45 am]

BILLING CODE 4140-01-M